LEGAL SERVICES CORPORATION

Sunshine Act Meetings

TIME AND DATE: The Legal Services Corporation (LSC) Board of Directors and its Institutional Advancement, Finance, Audit and Delivery of Legal Services committees will hold their 2025 summer quarterly business meetings July 14-16, 2025. On Monday, July 14, the first meeting will begin at 2:30 p.m. Eastern Time and will continue until the conclusion of the Committee's agenda. On Tuesday, July 15, the first meeting will begin at 9:00 a.m. ET, with the subsequent meetings commencing promptly upon adjournment of the immediately preceding meeting. On Wednesday, July 16, the first meeting will begin at 8:15 a.m. Eastern Time and will continue until the conclusion of the Board's agenda.

PLACE: LSC will conduct its July 14-16, 2025, meetings at the DoubleTree Suites by Hilton Hotel, Detroit Downtown-Fort Shelby, 525 W Lafayette Blvd., Detroit, MI 48226.

Public Observation: Unless otherwise noted herein, the Board and all committee meetings will be open to public observation. LSC will also livestream the meeting on its YouTube channel: www.youtube.com/@LegalServicesCorp.

STATUS: Open, except as noted below.

Institutional Advancement Committee and Communications Subcommittee—Open, except that, upon a vote of the Board of Directors, the meeting may be closed to the public to consider and act on a Motion to Approve Leaders Council and merging Council Invitees.

Finance Committee—Open, except that, upon a vote of the Board of Directors, the meeting may be closed to the public to receive Report on Year-End Projection for Fiscal Year 2025 and Budget Scenario Planning for Fiscal Year 2026.

Audit Committee—Open, except that, upon a vote of the Board of Directors, the meeting may be closed to the public to receive a briefing by the Office of Compliance and Enforcement on active enforcement matter(s); follow up on open investigation referrals from the Office of Inspector General; and receive briefings by LSC Management regarding significant grantee oversight activities.

Board of Directors—Open, except that, upon a vote of the Board of Directors, a portion of the meeting may be closed to the public to receive briefings from Management and the Inspector General; to consider and act on the General Counsel's report on potential and pending litigation and spending on outside legal counsel; and consider and act on list of Prospective Leaders Council and Emerging Council invitees.

Any portion of the closed session consisting solely of briefings does not fall within the Sunshine Act's definition of the term “meeting” and, therefore, the requirements of the Sunshine Act do not apply to such portion of the closed session.¹

¹ 5 U.S.C. 552b(a)(2) and (b). See also 45 CFR 1622.2 & 1622.3.

A verbatim written transcript will be made of the closed sessions of the Institutional Advancement, Finance, Audit, and the Board of Directors meetings. The transcript of any portions of the closed sessions falling within the relevant provisions of the Government in the Sunshine Act, 5 U.S.C. 552b(c)(6), (7), (9) and (10), will not be available for public inspection. A copy of the General Counsel's certification that, in his opinion, the closing is authorized by law will be available upon request.

MATTERS TO BE CONSIDERED:

Meeting Schedule

Monday, July 14, 2025

Start Time 2:30 p.m. ET

Institutional Advancement Committee

Open to the Public

1. Approval of Agenda

2. Approval of Minutes of the Institutional Advancement Committee's Open Session Meeting on April 6, 2025

3. Update on Leaders Council and Emerging Leaders Council

4. Development Report

5. Consider and Act on Other Business

6. Consider and Act on Motion to Adjourn the Open Session Meeting and Proceed to a Closed Session

Portions Closed to the Public

1. Approval of Minutes of the Institutional Advancement Committee's Closed Session Meeting on April 6, 2025

2. Consider and Act on Motion to Approve Leaders Council and Emerging Leaders Council Invitees

3. Consider and Act on Other Business

4. Consider and Act on Motion to Adjourn the Meeting

Tuesday, July 15, 2025

Start Time 9:00 a.m. ET

Finance Committee

Open to the Public

1. Approval of Agenda

2. Approval of the Minutes of the Finance Committee's Open Session Meeting on April 7, 2025

3. Approval of the Minutes of the Finance Committee's Open Session Meeting on June 9, 2025

4. Approval of the Minutes of the Combined Audit & Finance Committees' Open Session Meeting on April 7, 2025

5. Report on Fiscal Year 2026 Appropriation and FY 2027 Appropriations Process

6. Consider and Act on Other Business

7. Consider and Act on Motion to Adjourn the Open Session Meeting and Proceed to a Closed Session

Closed to the Public

8. Approval of the Minutes of the Finance Committee's Closed Session Meeting on April 7, 2025

9. Approval of the Minutes of the Combined Audit & Finance Committees' Closed Session Meeting on April 7, 2025

10. Report on Year-End Projection for Fiscal Year 2025 and Budget Scenario Planning for Fiscal Year 2026

11. Consider and Act on Motion to Adjourn the Closed Session Meeting and Resume the Open Session Meeting

Open to the Public

12. Consider and Act on Resolution #2025-XXX: Temporary Operating Authority for Fiscal Year 2026

13. Consider and Act on Motion to Adjourn the Meeting

Tuesday, July 15, 2025

Start Time 11:15 a.m. ET

Audit Committee

Open to the Public

1. Approval of Agenda

2. Approval of the Minutes of the Committee's Open Session Meeting on April 6, 2025

3. Approval of the Minutes of the Combined Audit and Finance Committees' Open Session Meeting on April 6, 2025

4. Review of the 2024 403(b) Draft Audited Financial Statements

5. Briefing by the Office of Inspector General, to include:

a. Update on key activities and accomplishments over the last quarter, and overview of plans and key priorities for the next quarter,

b. Highlights of audit insights, recently completed work, ongoing work, and planned work for the next quarter,

c. Highlights of investigative insights, recently completed work, ongoing work, and planned oversight work for the next quarter, and

d. Discuss any Committee questions/concerns related to the OIG's Semi-Annual Report for the Period October 1-March 30.

6. Management Update Regarding Risk Management

7. Update on Chief Financial Officer Bootcamp

8. Briefing about Follow-up by the Office of Compliance and Enforcement on Referrals by the Office of Inspector General Regarding Audit Reports and Annual Financial Statement Audits of Grantees

9. Consider and Act on Other Business

10. Consider and Act on Motion to Adjourn the Open Session Meeting and Proceed to a Closed Session Meeting

Portions Closed to the Public

11. Approval of the Minutes of the Committee's Closed Session Meeting on April 6, 2025

12. Approval of the Minutes of the Combined Audit and Finance Committees' Closed Session Meeting on April 6, 2025

13. Briefing by Office of Compliance and Enforcement on Active Enforcement Matters and Follow-Up on Open Investigation Referrals from the Office of Inspector General

14. As Needed Briefing by LSC Management Regarding Significant Grantee Oversight Activities

15. Consider and Act on Motion to Adjourn the Meeting

Tuesday, July 15, 2025

Start Time 1:30 p.m. ET

Delivery of Legal Services

Open to the Public

1. Approval of Agenda

2. Approval of Minutes of the Committee's Open Session meeting on April 6, 2025

3. Update on Performance Criteria Areas 1 and 3

4. Annual review of 2024 Grant Activity Report Data

5. Comments from Client Leadership Council

6. Consider and Act on Other Business

7. Consider and Act on a Motion to Adjourn the Meeting

Wednesday, July 16, 2025

Start Time 8:15 a.m. ET

Board of Directors

Open to the Public

1. Pledge of Allegiance

2. Approval of Agenda

3. Approval of Minutes of the Board's Open Session Meeting on April 7, 2025

4. Consider and Act on Resolution #2025-XXX: Approving the Minnesota Charitable Organization Annual Report Form

5. Chairman's Report

6. Members' Reports

7. President's Report

8. Update on LSC's Eviction Study

9. Inspector General's Report

10. Consider and Act on the Report of the Operations and Regulations Committee

11. Consider and Act on the Report of the Governance and Performance Committee

12. Consider and Act on the Report of the Institutional Advancement Committee and Communications Subcommittee

a. Consider and Act on Resolution #2025-XXX: In Recognition of Carl Rauscher

13. Consider and Act on the Report of the Delivery of Legal Services Committee

14. Consider and Act on the Report of the Audit Committee

15. Consider and Act on the Report of the Finance Committee

a. Consider and Act on Resolution #2025-XXX: Adopting LSC's Appropriation Request for Fiscal Year 2027

b. Consider and Act on Resolution #2025-XXX: Temporary Operating Authority for Fiscal Year 2026

16. Consider and Act on Other Business

17. Consider and Act on Whether to Authorize a Closed Session of the Board to Address Items Listed Below

Portions Closed to the Public

1. Approval of the Minutes of the Board's Closed Session Meeting on April 7, 2025

2. Management Briefing

3. Inspector General's Briefing

4. General Counsel's Report on Potential and Pending Litigation and Spending on Outside Legal Counsel

5. Consider and Act on List of Prospective Leaders Council and Emerging Council Invitees

6. Consider and Act on Motion to Adjourn the Meeting

CONTACT PERSON FOR MORE INFORMATION: Jessica Wechter, Special Assistant to the President, at (202) 295-1500. Questions may also be sent by electronic mail to updates@lsc.gov.

Non-Confidential Meeting Materials: Non-confidential meeting materials will be made available in electronic format at least 24 hours in advance of the meeting on the LSC website, at https://www.lsc.gov/about-lsc/board-meeting-materials.

(Authority: 5 U.S.C. 552b.)

Dated: July 2, 2025.
Stefanie Davis,
Deputy General Counsel, Legal Services Corporation.

[FR Doc. 2025-12624 Filed 7-2-25; 4:15 pm]

BILLING CODE 7050-01-P